NUCLEAR REGULATORY COMMISSION

Sunshine Act Meeting

AGENCY HOLDING THE MEETING: Nuclear Regulatory Commission.

DATES: Weeks of July 10, 17, 24, 31, August 7, and 14, 2000.

PLACE: Commissioners' Conference Room, 11555 Rockville Pike, Rockville, Maryland.

STATUS: Public and Closed.

MATTERS TO BE CONSIDERED:

Week of July 10

Monday, July 10

1:25 p.m.—Affirmation Session (Public Meeting)

a: Rulemaking to Modify the Event Reporting Requirements for Power Reactor in 10 CFR 50.72 and 50.73 and for Independent Spent Fuel Storage Installations (ISFSI) in 10 CFR 72.216

b: Final Rule: 10 CFR Parts 30, 31, and 32—“Requirements for Certain Generally Licensed Industrial Devices Containing Byproduct Material” and Related Change to the Enforcement Policy

c: Hydro Resources, Inc. Petition for Review of LBP-99-18, LBP-99-19, and LBP-99-30

1:30 p.m.—Briefing on Proposed Export of High Enriched Uranium to Canada (Public Meeting)

Tuesday, July 11

9:30 a.m.—Discussion of Intragovernmental Issues (Closed-Ex. 4 and 9)

Week of July 17—Tentative

There are not meetings scheduled for the Week of July 17.

Week of July 24—Tentative

Tuesday, July 25

3:25 p.m.—Affirmation Session (Public Meeting), (If necessary)

Week of July 31—Tentative

There are no meetings scheduled for the Week of July 31.

Week of August 7—Tentative

There are no meetings scheduled for the Week of August 7.

Week of August 14—Tentative

Tuesday, August 15

9:25 a.m.—Affirmation Session (Public Meeting), (If necessary)

9:30 a.m.—Briefing on NRC International Activities (Public Meeting), (Contact: Ron Hauber, 301-415-2344)

* The schedule for Commission meetings is subject to change on short notice. To verify the status of meeting call (recording)—(301) 415-1292. Contact person for more information: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: July 9, 2000.
William M. Hill, Jr.,
SECY Tracking Officer, Office of the Secretary.

[FR Doc. 00-17780 Filed 7-12-00; 2:18 pm]

BILLING CODE 7590-01-M